DEPARTMENT OF TRANSPORTATION

Federal Highway Administration

Notice of Final Federal Agency Actions on the Newberg Dundee Transportation Improvement Project (Tier 1), Oregon 99W: Yamhill County, OR

AGENCY: Federal Highway Administration (FHWA), DOT.

ACTION: Notice of Limitation on Claims for Judicial Review of Actions by FHWA.

SUMMARY: This notice announces actions taken by the FHWA that are final within the meaning of 23 U.S.C. 139(l)(1). The actions relate to a proposed highway project, the Newberg Dundee Transportation Improvement Project (Tier 1), Oregon 99W, extending approximately 11 miles from the eastern terminus east of Newberg in the Rex Hill area, to the western terminus where Oregon 99W intersects with OR18 (McDougal Corner) west of Dundee, near Dayton in the County of Yamhill, State of Oregon. The Federal actions, taken as a result of a tiered environmental review process under the National Environmental Policy Act, 42 U.S.C. 4321-4351 (NEPA), and implementing regulations on tiering, 40 CFR 1502.20, 40 CFR 1508.28, and 23 CFR part 771, determined certain issues related to the proposed project. Those Tier 1 decisions will be used by Federal agencies in subsequent proceedings, including decisions whether to grant licenses, permits, and approvals for the highway project. Tier 1 decisions also may be relied upon by State and local agencies in proceedings on the proposed project.

DATES: By this notice, the FHWA is advising the public that it has made decisions that are subject to 23 U.S.C. 139(l)(1) and are final within the meaning of that law. A claim seeking judicial review of the Tier 1 Federal agency decisions on the proposed highway project will be barred unless the claim is filed on or before May 7, 2008. If the Federal law that authorizes judicial review of a claim provides a time period of less than 180 days for filing such claim, then that shorter time period still applies.

FOR FURTHER INFORMATION CONTACT: For the FHWA: Ms. Michelle Eraut, Environmental Program Manager, Federal Highway Administration, 530 Center Street, NE., Suite 100, Salem, Oregon 97301; telephone 503-587-4716. You may also contact Ms. Lisa Ansell, Project Manager, Oregon Department of Transportation, 885 Airport Road SE., Building P, Salem, Oregon 97301-4788; telephone 503-986-2688.

SUPPLEMENTARY INFORMATION: Notice is hereby given that the FHWA has issued a Tier 1 Final Environmental Impact Statement (FEIS) and Record of Decision (ROD) in connection with a proposed highway project in the State of Oregon. The Newberg Dundee Transportation Improvement Project (Tier 1), Oregon 99W, proposes an approximately 11 mile long, four-lane expressway extending from the eastern terminus, east of Newberg in the Rex Hill area to its western terminus where Oregon 99 W intersects with Oregon 18 (McDougal Corner) west of Dundee near Dayton. The proposed expressway will be primarily on new alignment. Decisions in the Tier 1 ROD include, but are not limited to, the following:

1. Purpose and need for the project (see Chapter 1 of the FEIS).

2. Reasonable alternatives that will be carried forward for further evaluation in the Tier 2 proceedings (see FEIS Chapter 2).

3. Selection of the highway build alternative and highway corridor for the project. The selected alternative is called Modified 3J, which is a combination of Alternative 3J and other build alternatives.

4. Alternatives that have been eliminated from further consideration and study, including but not limited to, those identified in the Tier 1 FEIS as the “no build” alternative, and alternatives 3C, 3D, 3G, 3H, 3I, 3J, 3K and 4C (see FEIS Chapter 2). Detailed information about the alternatives considered in Tier 1, and about the Federal decisions that eliminated alternatives other than Alternative Modified 3J, is available in the Tier 1 ROD and Tier 1 FEIS.

Interested parties may consult the ROD and FEIS for further information on each of the decisions described above.

The Tier 1 actions by the Federal agencies, and the laws under which such actions were taken, are described in the Tier 1 Final Environmental Impact Statement (FEIS) approved on June 2, 2005, in the FHWA Record of Decision (ROD) issued on August 26, 2005, and in other documents in the FHWA project records. The scope and purpose of the Tier 1 FEIS are described in sections Chapter 1 of the FEIS. The FEIS, ROD, and other documents in the FHWA project file are available by contacting the FHWA or the Oregon Department of Transportation at the addresses provided above. The FHWA FEIS and ROD can also be viewed and downloaded from the project Web site at http://www.newbergdundeebypass.org.

This notice applies to all Federal agency Tier 1 decisions that are final within the meaning of 23 U.S.C. 139(l)(1) as of the issuance date of this notice and all laws under which such actions were taken, including but not limited to:

1. General: National Environmental Policy Act (NEPA) [42 U.S.C. 4321-4351]; Federal-Aid Highway Act [23 U.S.C. 109 and 23 U.S.C. 128].

2. Land: Section 4(f) of the Department of Transportation Act of 1966 [49 U.S.C. 303].

(Catalog of Federal Domestic Assistance Program Number 20.205, Highway Planning and Construction. The regulations implementing Executive Order 12372 regarding intergovernmental consultation on Federal programs and activities apply to this program.)

Authority: 23 U.S.C. 139(l)(1).

Issued on: November 5, 2007.
Michelle Eraut,
Environmental Program Manager, Salem, Oregon.

[FR Doc. E7-22031 Filed 11-8-07; 8:45 am]

BILLING CODE 4910-22-P